DEPARTMENT OF ENERGY

Federal Energy Regulatory Commission

Combined Notice of Filings #1

July 27, 2007.

Take notice that the Commission received the following electric rate filings:

Docket Numbers: ER03-774-004.

Applicants: Eagle Energy Partners I, L.P.

Description: Eagle Energy Partners I, LP notifies FERC of a change in status that reflects a departure from the characteristics upon which FERC relied in granting it authorization to sell wholesale power at market rates.

Filed Date: 07/25/2007.

Accession Number: 20070727-0052.

Comment Date: 5 p.m. Eastern Time on Wednesday, August 15, 2007.

Docket Numbers: ER03-1413-005.

Applicants: Sempra Energy Trading Corp.

Description: Sempra Energy Trading Corp submits its response to the Motion to Intervene Out-of-Time and Comments of ISO New England Inc.

Filed Date: 07/25/2007.

Accession Number: 20070726-0100.

Comment Date: 5 p.m. Eastern Time on Wednesday, August 15, 2007.

Docket Numbers: ER04-208-004; ER07-589-001; ER06-1228-002.

Applicants: Citigroup Energy Inc., Citigroup Energy Canada ULC, Phibro LLC.

Description: Citigroup Energy Inc et al submit a notice of a non-material change in status in compliance with the reporting requirements adopted by FERC in Order 652 etc.

Filed Date: 07/23/2007.

Accession Number: 20070727-0014.

Comment Date: 5 p.m. Eastern Time on Monday, August 13, 2007.

Docket Numbers: ER04-817-002.

Applicants: Indeck Maine Energy, L.L.C.

Description: Indeck Maine Energy, L.L.C's Triennial Market Power update pursuant to the Commission's 7/22/04 letter order.

Filed Date: 07/23/2007.

Accession Number: 20070727-0013.

Comment Date: 5 p.m. Eastern Time on Monday, August 13, 2007.

Docket Numbers: ER04-831-003.

Applicants: Calpine Newark, LLC.

Description: Calpine Newark, LLc submits updated market analysis in accordance with FERC's letter order dated 7/21/04.

Filed Date: 07/23/2007.

Accession Number: 20070724-0200.

Comment Date: 5 p.m. Eastern Time on Monday, August 13, 2007.

Docket Numbers: ER05-1420-003.

Applicants: Lehman Brothers Commodity Services, Inc.

Description: Lehman Brother Commodity Services, Inc notifies of a change in status of a non-material departure from the characteristics relied upon by FERC in its order authorizing to engage in sales of electric power.

Filed Date: 07/25/2007.

Accession Number: 20070727-0051.

Comment Date: 5 p.m. Eastern Time on Wednesday, August 15, 2007.

Docket Numbers: ER06-451-000.

Applicants: Southwest Power Pool, Inc., Southwest Power Pool, Inc.

Description: Southwest Power Pool, Inc submits revised tables for February through May to its EIS Market Report.

Filed Date: 07/17/2007.

Accession Number: 20070720-0084.

Comment Date: 5 p.m. Eastern Time on Tuesday, August 07, 2007.

Docket Numbers: ER07-87-002.

Applicants: ISO New England Inc.

Description: ISO New England Inc et al submits proposed amendments to the ISO OATT in compliance with the Commission's Order issued on 6/21/07.

Filed Date: 07/23/2007.

Accession Number: 20070727-0012.

Comment Date: 5 p.m. Eastern Time on Monday, August 13, 2007.

Docket Numbers: ER07-869-001; ER07-475-002; ER06-615-008.

Applicants: California Independent System Operator Corporation.

Description: California Independent System Operator Corporation submits proposed tariff revisions pursuant to the orders issued by FERC.

Filed Date: 07/20/2007.

Accession Number: 20070727-0011.

Comment Date: 5 p.m. Eastern Time on Friday, August 10, 2007.

Docket Numbers: ER07-921-001.

Applicants: ISO New England Inc.

Description: ISO New England, Inc submits their compliance filing as required by the June 21, 2007 letter order.

Filed Date: 07/23/2007.

Accession Number: 20070727-0018.

Comment Date: 5 p.m. Eastern Time on Monday, August 13, 2007.

Docket Numbers: ER07-1018-000.

Applicants: SIG Energy, LLLP.

Description: SIG Energy LLLP resubmits its 7/20/07 filing of a supplement to its 6/8/07 “Notice of Succession” re Susquehanna Energy Products LLC.

Filed Date: 07/24/2007.

Accession Number: 20070726-0145.

Comment Date: 5 p.m. Eastern Time on Tuesday, August 14, 2007.

Docket Numbers: ER07-1184-000.

Applicants: Entergy Services, Inc.

Description: Entergy Services, Inc agent for Entergy Arkansas, Inc submits a notice of cancellation of the Power Coordination, Interchange and Transmission Service Agreement w/ the City of Campbell, Arkansas.

Filed Date: 07/24/2007.

Accession Number: 20070727-0016.

Comment Date: 5 p.m. Eastern Time on Tuesday, August 14, 2007.

Docket Numbers: ER07-1185-000.

Applicants: Allegheny Energy Supply Company, LLC.

Description: Allegheny Energy Supply Company, LLC submits this petition requesting authorization to make wholesale power sales to its affiliate Potomac Edison Co pursuant to section 205 of the FPA.

Filed Date: 07/24/2007.

Accession Number: 20070727-0009.

Comment Date: 5 p.m. Eastern Time on Tuesday, August 14, 2007.

Docket Numbers: ER07-1186-000.

Applicants: PJM Interconnection, L.L.C.

Description: PJM Interconnection, LLC submits amendments to Schedule 12-Appendix of the PJM Tariff to reflect the assignments of cost responsibility for five baseline upgrades.

Filed Date: 07/23/2007.

Accession Number: 20070726-0208.

Comment Date: 5 p.m. Eastern Time on Monday, August 13, 2007.

Docket Numbers: ER07-1187-000.

Applicants: Louisville Gas & Electric Company.

Description: Louisville Gas and Electric Co and Kentucky Utilities submit Exhibit A as Amendment No. 1 to the Service Agreement with Illinois Municipal Electric Agency.

Filed Date: 07/23/2007.

Accession Number: 20070726-0207.

Comment Date: 5 p.m. Eastern Time on Monday, August 13, 2007.

Docket Numbers: ER07-1188-000.

Applicants: California Independent System Operator Corporation.

Description: California Independent System Operator Corp submits a Notice of Termination of the SWPL Operations Agreement.

Filed Date: 07/23/2007.

Accession Number: 20070726-0204.

Comment Date: 5 p.m. Eastern Time on Monday, August 13, 2007.

Docket Numbers: ER07-1189-000.

Applicants: Calpine Parlin, LLC.

Description: Calpine Parlin, LLC submits a Notice of Cancellation of Rate Schedules No. 1 and 2.

Filed Date: 07/23/2007.

Accession Number: 20070726-0205.

Comment Date: 5 p.m. Eastern Time on Monday, August 13, 2007.

Docket Numbers: ER07-1190-000.

Applicants: American Electric Power Service Corp.

Description: The American Electric Power Service Corp on behalf of the AEP Operating Companies submit an original Interconnection and Local Delivery Service Agreement with the City of Shelby, Ohio.

Filed Date: 07/23/2007.

Accession Number: 20070726-0206.

Comment Date: 5 p.m. Eastern Time on Monday, August 13, 2007.

Docket Numbers: ER07-1191-000.

Applicants: Xcel Energy Operating Companies.

Description: Xcel Energy Services Inc on behalf of Southwestern Public Service Co submits a Connection Agreement with Golden Spread Electric Cooperative, Inc.

Filed Date: 07/23/2007.

Accession Number: 20070726-0203.

Comment Date: 5 p.m. Eastern Time on Monday, August 13, 2007.

Docket Numbers: ER07-1192-000.

Applicants: Wisconsin Electric Power Company.

Description: Wisconsin Electric Power Co submits a filing for authorization to distribute to wholesale customers certain decommissioning funds.

Filed Date: 07/23/2007.

Accession Number: 20070726-0202.

Comment Date: 5 p.m. Eastern Time on Monday, August 13, 2007.

Docket Numbers: ER07-1193-000.

Applicants: CPV Liberty, LLC.

Description: CPV Liberty, LLC submits an application market-based rate authorization, related waivers and preapprovals.

Filed Date: 07/23/2007.

Accession Number: 20070726-0201.

Comment Date: 5 p.m. Eastern Time on Monday, August 13, 2007.

Docket Numbers: ER07-1194-000.

Applicants: Castlebridge Energy Group LLC.

Description: Castlebridge Energy Group LLC's Application for Acceptance of Initial Rate Schedule, Waivers and Blanket Authority.

Filed Date: 07/24/2007.

Accession Number: 20070726-0212.

Comment Date: 5 p.m. Eastern Time on Tuesday, August 14, 2007.

Docket Numbers: ER07-1195-000.

Applicants: Mittal Steel USA, Inc.

Description: Application of Mittal Steel USA, Inc for acceptance of Initial Rate Schedule, Waiver and Blanket Authority.

Filed Date: 07/24/2007.

Accession Number: 20070726-0213.

Comment Date: 5 p.m. Eastern Time on Tuesday, August 14, 2007.

Docket Numbers: ER07-1196-000.

Applicants: Southern California Edison Company.

Description: Southern California Edison Co submits First Revised Sheet 3 et al to FERC Electric Tariff, Second Revised Volume No. 6, to be effective 7/26/07.

Filed Date: 07/25/2007.

Accession Number: 20070726-0193.

Comment Date: 5 p.m. Eastern Time on Wednesday, August 15, 2007.

Docket Numbers: ER07-1197-000.

Applicants: American Electric Power Service Corp.

Description: American Electric Power Service Corporation agent for AEP Operating Companies submits the First Revised Interconnection & Local Delivery Service Agreement No. 1249 with Elk Power Company.

Filed Date: 07/25/2007.

Accession Number: 20070727-0050.

Comment Date: 5 p.m. Eastern Time on Wednesday, August 15, 2007.

Docket Numbers: ER07-1198-000.

Applicants: PacifiCorp.

Description: PacifiCorp submits a Facilities Agreement with Brigham City Light & Power.

Filed Date: 07/25/2007.

Accession Number: 20070727-0048.

Comment Date: 5 p.m. Eastern Time on Wednesday, August 15, 2007.

Any person desiring to intervene or to protest in any of the above proceedings must file in accordance with Rules 211 and 214 of the Commission's Rules of Practice and Procedure (18 CFR 385.211 and 385.214) on or before 5 p.m. Eastern time on the specified comment date. It is not necessary to separately intervene again in a subdocket related to a compliance filing if you have previously intervened in the same docket. Protests will be considered by the Commission in determining the appropriate action to be taken, but will not serve to make protestants parties to the proceeding. Anyone filing a motion to intervene or protest must serve a copy of that document on the Applicant. In reference to filings initiating a new proceeding, interventions or protests submitted on or before the comment deadline need not be served on persons other than the Applicant.

The Commission encourages electronic submission of protests and interventions in lieu of paper, using the FERC Online links at http://www.ferc.gov. To facilitate electronic service, persons with Internet access who will eFile a document and/or be listed as a contact for an intervenor must create and validate an eRegistration account using the eRegistration link. Select the eFiling link to log on and submit the intervention or protests.

Persons unable to file electronically should submit an original and 14 copies of the intervention or protest to the Federal Energy Regulatory Commission, 888 First St., NE., Washington, DC 20426.

The filings in the above proceedings are accessible in the Commission's eLibrary system by clicking on the appropriate link in the above list. They are also available for review in the Commission's Public Reference Room in Washington, DC. There is an eSubscription link on the Web site that enables subscribers to receive e-mail notification when a document is added to a subscribed dockets(s). For assistance with any FERC Online service, please e-mail FERCOnlineSupport@ferc.gov or call (866) 208-3676 (toll free). For TTY, call (202) 502-8659.

Kimberly D. Bose,
Secretary.

[FR Doc. E7-15087 Filed 8-2-07; 8:45 am]

BILLING CODE 6717-01-P